DEPARTMENT OF LABOR

Office of the Secretary

Agency Information Collection Activities; Submission for OMB Review; Comment Request; Notice of Termination, Suspension, Reduction, or Increase in Benefit Payments

ACTION: Notice.

SUMMARY: The Department of Labor (DOL) is submitting the Office of Workers' Compensation Programs (OWCP) sponsored information collection request (ICR) revision titled, “Notice of Termination, Suspension, Reduction, or Increase in Benefit Payments,” to the Office of Management and Budget (OMB) for review and approval for use in accordance with the Paperwork Reduction Act (PRA) of 1995.

DATES: Submit comments on or before July 19, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, New Executive Office Building, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: Coal mine operators, their representatives, or their insurers who have been identified as responsible for paying Black Lung benefits to an eligible miner or an eligible surviving dependent of the miner, are called Responsible Operators (ROs). ROs who pay benefits are required to report any change in the benefit amount to the Division of Coal Mine Workers' Compensation within the OWCP. Form CM-908, when properly completed and submitted, notifies the agency of the change in the beneficiary's benefit amount and the reason for the change. Federal Mine Safety and Health Act of 1977 as amended, section 432 (30 U.S.C. 942) and regulations 20 CFR 725.621 necessitate this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1240-0030. The current OMB approval is scheduled to expire on June 30, 2012; however, it should be noted that existing information collection requirements submitted to the OMB receive a month-to-month extension while they undergo review. New requirements would only take effect after OMB approval. This ICR is classified as a revision, because the OWCP has made certain changes for Form CM-908; however, those changes are not expected to change respondent burden. For example, the OWCP has added the DOL seal and removed a reference to the no longer existent Employment Standards Administration. In addition, the OWCP has added a notice that additional assistance is available for respondents with disabilities and improved accessibility for such persons who access the form on the Internet. The OWCP has also added some functionality to ensure consistency and accuracy for some responses. For additional information, see the related notice published in the Federal Register on March 7, 2012 (77 FR 13636).

Interested parties are encouraged to send comments to the OMB, Office of Information and Regulatory Affairs at the address shown in the ADDRESSES section within 30 days of publication of this notice in the Federal Register. In order to help ensure appropriate consideration, comments should reference OMB Control Number 1240-0030. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Notice of Termination, Suspension, Reduction, or Increase in Benefit Payments.

OMB Control Number: 1240-0030.

Affected Public: Private Sector—businesses or other for profits.

Total Estimated Number of Respondents: 325.

Total Estimated Number of Responses: 5,000.

Total Estimated Annual Burden Hours: 1,000.

Total Estimated Annual Other Costs Burden: $4,800.

Dated: June 13, 2012.
Michel Smyth,
Departmental Clearance Officer.

[FR Doc. 2012-14862 Filed 6-18-12; 8:45 am]

BILLING CODE 4510-CK-P